DEPARTMENT OF AGRICULTURE

Food and Nutrition Service

7 CFR Part 226

[Docket No. FNS-2025-0005]

RIN 0584-AF15

Child and Adult Care Food Program: Rescission of Obsolete Data Collection Requirements

AGENCY: Food and Nutrition Service (FNS), Department of Agriculture (USDA).

ACTION: Final rule.

SUMMARY: This rule rescinds an obsolete data collection requirement in regulations regarding the Child and Adult Care Food Program.

DATES: The final rule is effective July 11, 2025.

FOR FURTHER INFORMATION CONTACT: James C. Miller, Administrator, Food and Nutrition Service, at (703) 305-2060, or James.Miller@usda.gov with a subject line of “RIN 0584-AF15”.

SUPPLEMENTARY INFORMATION: USDA's regulations governing data collection related to organizations are contained in § 226.25(g) of title 7 of the Code of Federal Regulations. These regulations include an obsolete requirement for State agencies administering the Child and Adult Care Food Program (CACFP) to collect and report data related to participating institutions in each of Federal fiscal years 2006 through 2009.

Upon reviewing these regulations, USDA has determined that they should be rescinded. This regulation was established on May 2, 2007, under the final rule “Data Collection Related to the Participation of Faith-Based and Community Organizations” (72 FR 24179). The regulation required mandatory collection and reporting activities to cease in 2010. USDA does not intend to resume these requirements because implementation of the directives mandated by the underlying executive orders is complete. These requirements are obsolete and must be removed from Federal regulations. This rulemaking does not impact other data collection requirements outside of those found in current 7 CFR 226.25(g).

USDA has determined that this reason, independently and alone, justifies rescission of the 7 CFR 226.25(g) regulations. Regardless of the benefits of the rule, USDA must not maintain regulations that are unlawful. USDA has determined that there is no reliance interest in an unlawful regulation. See Dep't of Homeland Sec. v. Regents of the Univ. of California, 591 U.S. 1, 32 (2020). Moreover, regardless of lawfulness, USDA has no interest in maintaining a rule that is outdated.

To the extent there is any uncertainty about the costs and benefits of the 7 CFR 226.25(g) regulations, it is the policy of USDA to err on the side of deregulation. USDA's limited resources should be focused on fairly and rationally enforcing a discrete and manageable number of regulations. The regulations at 7 CFR 226.25(g) are not a priority.

Procedural Matters

Executive Orders 12866 and 13563

Under Executive Order 12866, as amended by Executive Orders 14215 and 13563, agencies must assess all costs and benefits of available regulatory alternatives and, if regulation is necessary, select regulatory approaches that maximize net benefits. The Office of Management and Budget's (OMB) Office of Information and Regulatory Affairs has determined that this regulatory action is not significant and, therefore, is not subject to OMB review.

Regulatory Flexibility Act

Under the Regulatory Flexibility Act (5 U.S.C. 601-612) (as amended by the Small Business Regulatory Enforcement Fairness Act of 1996; 5 U.S.C. 601 et seq.), agencies must prepare and make available for public comment a regulatory flexibility analysis that describes the effect of the rule on small entities (i.e., small businesses, small organizations, and small government jurisdictions). FNS has concluded and hereby certifies that this rule will not have a significant economic impact on a substantial number of small entities.

Unfunded Mandates Reform Act

This rule does not contain Federal mandates (under the regulatory provisions of Title II of the Unfunded Mandates Reform Act (UMRA)) for State, local, and Tribal governments, or the private sector of $100 million or more in any one year. Thus, the rule is not subject to the requirements of sections 202 and 205 of the UMRA.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. As this rule is purely deregulatory, FNS has assessed the impact of this rule on Indian tribes and determined that this rule would not have Tribal implications that require consultation under Executive Order 13175.

Paperwork Reduction Act

In accordance with the Paperwork Reduction Act of 1995 (44 U.S.C. 3501-3520), an agency may not conduct or sponsor, and a person is not required to respond to, a collection of information, unless the collection displays a currently valid OMB control number. This rule is deregulatory and so would not impose any additional information collection requirements; rather, it would reduce future collection requirements by removing reporting burdens.

E-Government Act Compliance

The Department is committed to complying with the E-Government Act, 2002 to promote the use of the internet and other information technologies to provide increased opportunities for citizen access to Government information and services, and for other purposes.

Executive Order 13132; Federalism Summary Impact Statement

The rule is deregulatory and has little effect on States and local governments, so FNS anticipates that this rule will not have implications for federalism. Therefore, under section 6(b) of the Executive order, a federalism summary is not required.

List of Subjects in 7 CFR Part 226

Day care, Food assistance programs, Grant programs, Grant programs—health, Grant programs—social programs, Infants and children, Intergovernmental relations, Reporting and recordkeeping requirements.

Accordingly, 7 CFR part 226 is amended as follows:

PART 226—CHILD AND ADULT CARE FOOD PROGRAM

1. The authority citation for part 226 continues to read as follows:

Authority: Secs. 9, 11, 14, 16, and 17, Richard B. Russell National School Lunch Act, as amended (42 U.S.C. 1758, 1759a, 1762a, 1765 and 1766).

§ 226.25 [Amended]

2. In § 226.25:

a. Remove paragraph (g);

b. Redesignate paragraphs (h) through (j) as paragraphs (g) through (i); and

c. In newly redesignated paragraphs (i)(2) and (5), remove “(j)(1)” and add “(i)(1)” in its place.

James C. Miller,
Administrator.

[FR Doc. 2025-08160 Filed 5-9-25; 8:45 am]

BILLING CODE P